DEPARTMENT OF TRANSPORTATION

Federal Aviation Administration

14 CFR Part 71

[Docket No. FAA-2008-0457; Airspace Docket No. 08-AAL-16]

Revision of Class E Airspace; Red Dog, AK

AGENCY: Federal Aviation Administration (FAA), DOT.

ACTION: Final rule; correction.

SUMMARY: This action corrects two errors in the airspace description contained in a Final Rule that was published in the Federal Register on Friday, July 25, 2008 (73 FR 43351), Airspace Docket No. 08-AAL-16.

DATES: Effective Date: 0901 UTC, September 25, 2008.

FOR FURTHER INFORMATION CONTACT: Gary Rolf, AAL-538G, Federal Aviation Administration, 222 West 7th Avenue, Box 14, Anchorage, AK 99513-7587; telephone number (907) 271-5898; fax: (907) 271-2850; e-mail. Internet address: http://www.alaska.faa.gov/at.

SUPPLEMENTARY INFORMATION:

History

Federal Register Document E8-16962, Airspace Docket No. 08-AAL-16, published on Friday, July 25, 2008 (73 FR 43351), revised Class E airspace at Red Dog, AK. An error was discovered in the airspace description that misidentified the airfield location. A typographical error in the description was also identified. This action corrects these two errors.

Correction to Final Rule

Accordingly, pursuant to the authority delegated to me, the airspace description of the Class E airspace published in the Federal Register, Friday, July 25, 2008 (73 FR 43351), (FR Doc E8-16962, page 43351, column 3) is corrected as follows:

§ 71.1 [Corrected]

* * * * *

AAL AK E5 Red Dog, AK [Corrected]

Red Dog, AK

(Lat. 68°01′56″ N., Long. 162°53′57″ W.)

That airspace extending upward from 700 feet above the surface within an 11-mile radius of the Red Dog Airport, AK, and within 4 miles either side of the 219° bearing from the Red Dog Airport, AK, extending from the 11-mile radius to 14.5 miles southwest of the Red Dog Airport, AK; and that airspace extending upward from 1,200 feet above the surface within a 72.5-mile radius of the Red Dog Airport, AK.

* * * * *

Issued in Anchorage, AK, on August 22, 2008.
James Miller,
Acting Manager, Alaska Flight Service Information Area Group.

[FR Doc. E8-20313 Filed 9-2-08; 8:45 am]

BILLING CODE 4910-13-P